DEPARTMENT OF HOMELAND SECURITY

Coast Guard

[USCG-2016-0499]

National Maritime Security Advisory Committee

AGENCY: Coast Guard, Department of Homeland Security.

ACTION: Notice of Federal Advisory Committee Meeting.

SUMMARY: The National Maritime Security Advisory Committee will meet in Leesburg, VA to discuss various issues relating to national maritime security. This meeting will be open to the public.

DATES: The Committee will meet on Tuesday, October 18, 2016, from 1:15 p.m. to 4:30 p.m. and Wednesday, October 19, 2016, from 8 a.m. to 12 Noon. Either session may close early if all business is finished.

ADDRESSES: The meeting will be held in the Belmont A and B Room at The National Conference Center, 18980 Upper Belmont Place, Leesburg, VA 20176. The location's Web site is http://www.conferencecenter.com.

This meeting will be broadcast via a web enabled interactive online format and teleconference line. To participate via teleconference, dial 1-855-475-2447; the pass code to join is 764 990 20#. Additionally, if you would like to participate in this meeting via the online web format, please log onto https://share.dhs.gov/nmsac/ and follow the online instructions to register for this meeting.

For information on facilities or services for individuals with disabilities or to request special assistance at the meeting, contact the person listed in the FOR FURTHER INFORMATION CONTACT section as soon as possible.

Instructions: To facilitate public participation, we are inviting public comment on the issues to be considered by the Committee, as listed in the “Agenda” section below. Written comments must be submitted no later than October 10, 2016, if you want Committee members to be able to review your comments before the meeting. You must include “Department of Homeland Security” and the docket number [USCG-2016-0499]. Written comments may be submitted using Federal eRulemaking Portal at http://www.regulations.gov. For assistance with technical difficulties, contact the individual listed in the FOR FURTHER INFORMATION CONTACT section of this document.

All comments received will be posted without alteration at http://www.regulations.gov, including any personal information provided. You may review a Privacy Act notice regarding the Federal Docket Management System in the March 24, 2005 issue of the Federal Register (70 FR 15086)

Docket Search: For access to the docket to read documents or comments related to this Notice, go to http://www.regulations.gov insert “USCG-2016-0499” in the “Search” box, press Enter and then click on the item you wish to view.

Public oral comments will be sought throughout the meeting by the Designated Federal Officer as specific issues are discussed by the Committee. Additionally, public oral comment periods will be held during the meetings on October 18, 2016, from 4 p.m. to 4:15 p.m., and October 19, 2016, from 11:30 a.m. to 12 Noon. Speakers are requested to limit their comments to 3 minutes. Please note that the public comment period will end following the last call for comments, even if the entire scheduled period has not elapsed. Contact the person listed in the FOR FURTHER INFORMATION CONTACT section below to register as a speaker.

FOR FURTHER INFORMATION CONTACT: Mr. Ryan Owens, Alternate Designated Federal Officer for the National Maritime Security Advisory Committee, 2703 Martin Luther King Jr. Avenue SE., Washington, DC 20593, Stop 7581, Washington, DC 20593-7581; telephone 202-372-1108 or email ryan.f.owens@uscg.mil.

SUPPLEMENTARY INFORMATION: Notice of this meeting is in compliance with the Federal Advisory Committee Act, Title 5, United States Code Appendix. The National Maritime Security Advisory Committee operates under the authority of 46 U.S.C. 70112. The Committee provides advice to, consults with, and makes recommendations to the Secretary of Homeland Security, via the Commandant of the Coast Guard, on matters relating to national maritime security.

A copy of all meeting documentation will be available at https://homeport.uscg.mil/NMSAC by October 17, 2016. Alternatively, you may contact the person in the FOR FURTHER INFORMATION CONTACT section above.

Agenda of Meeting

Day 1

The Committee will meet to review, discuss, and formulate recommendations on the following issues:

(1) Extremely Hazardous Cargo Strategy. In July, the Coast Guard tasked the Committee to work with the Chemical Transportation Advisory Committee to assist in the development of an Extremely Hazardous Cargo Strategy Implementation Plan. The Committee will receive an update from the Extremely Hazardous Cargo Working Group on their efforts.

(2) Transportation Worker Identification Credential. The Committee will receive a brief and provide comment on current Transportation Worker Identification Credential efforts.

(3) Facility Security Officer Regulation and Training. The Committee will receive a brief and provide comment on current regulation and training efforts

(4) Regulatory Update. The Committee will receive an update brief on regulatory efforts to date.

(5) Public Comment period.

Day 2

The Committee will meet to review, discuss and formulate recommendations on the following issues:

(1) Future Maritime Security Concerns. The Committee will be tasked with developing a long term list of maritime concerns for potential future taskings.

(2) Joint Port Recovery Protocols. The Committee will receive a brief and provide recommendations on the efforts to update the United States Coast Guard/Customs and Border Protection Joint Port Recovery Protocols.

(3) Transportation Security Administration's Intermodal Security Training and Exercise Program “Maritime Active Shooter Tabletop Exercises” for Large Passenger Vessel Operations. The Committee will receive a brief and provide recommendations on the efforts to update on this training program

(4) Public comment period.

Dated: September 24, 2016.
V.B. Gifford, Jr.,
Captain, U.S. Coast Guard, Director of Inspections and Compliance.

[FR Doc. 2016-23515 Filed 9-28-16; 8:45 am]

BILLING CODE 9110-04-P